DEPARTMENT OF COMMERCE

Foreign-Trade Zones Board

[B-83-2015]

Foreign-Trade Zone (FTZ) 183—Austin, Texas; Authorization of Proposed Production Activity, Samsung Austin Semiconductor, L.L.C., Subzone 183B, (Semiconductors), Austin, Texas

On December 14, 2015, Samsung Austin Semiconductor, L.L.C., operator of Subzone 183B, submitted a notification of proposed production activity to the Foreign-Trade Zones (FTZ) Board for its facility in Austin, Texas.

The notification was processed in accordance with the regulations of the FTZ Board (15 CFR part 400), including notice in the Federal Register inviting public comment (80 FR 81293, December 29, 2015). The FTZ Board has determined that no further review of the activity is warranted at this time. The production activity described in the notification is authorized, subject to the FTZ Act and the Board's regulations, including Section 400.14.

Dated: April 12, 2016.
Andrew McGilvray,
Executive Secretary.

[FR Doc. 2016-08909 Filed 4-15-16; 8:45 am]

BILLING CODE 3510-DS-P